DEPARTMENT OF HOMELAND SECURITY

Coast Guard

33 CFR Part 100

[Docket No. CGD07-07-102]

RIN 1625-AA08

Special Local Regulations; Recurring Marine Events in the Seventh Coast Guard District

AGENCY: Coast Guard, DHS.

ACTION: Notice of proposed rulemaking.

SUMMARY: The Coast Guard proposes to create special local regulations to regulate recurring marine events in the Seventh Coast Guard District. These regulations will apply to all permitted events listed on the table attached to the regulation, and include events such as regattas, parades, and fireworks displays. These regulations are being proposed to reduce the Coast Guard's administrative workload and expedite public notification of events.

DATES: Comments and related material must reach the Coast Guard on or before December 13, 2007.

ADDRESSES: You may mail comments and related material to Commander, U.S. Coast Guard Seventh District (dpi), 909 SE 1st Ave, Miami, FL 33131-3050. The Seventh District Prevention Division maintains the public docket for this rulemaking. Comments and material received from the public, as well as documents indicated in this preamble as being available in the docket, will become part of this docket and will be available for inspection or copying at the Brickell Plaza Federal Building, Miami, FL, between 8 a.m. and 3:30 p.m., Monday through Friday, except Federal holidays.

FOR FURTHER INFORMATION CONTACT: LT Clint Smith, U.S. Coast Guard District Seven Prevention Division, (305) 415-6860.

SUPPLEMENTARY INFORMATION:

Request for Comments

We encourage you to participate in this rulemaking by submitting comments and related material. If you do so, please include your name and address, identify the docket number for this rulemaking CGD07-07-102, indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to the U.S. Coast Guard District Seven Prevention Division at the address under ADDRESSES explaining why one would be beneficial. If we determine that one would aid this rulemaking, we will hold one at a time and place announced by a later notice in the Federal Register.

Background and Purpose

Marine events are frequently held on the navigable waters within the boundary of the Seventh Coast Guard District. These include events such as sailing regattas, holiday parades, and fireworks displays. Currently, there are over 250 annually recurring marine events and many other non-recurring events within the district. In the past, the Coast Guard regulated these events by creating individual special local regulations on a case by case basis. Most of these events required only the establishment of a regulated area and assignment of a patrol commander to ensure safety. Issuing individual, annual special local regulations has created a significant administrative burden on the Coast Guard. In 2005, the Coast Guard created over 60 temporary regulations for marine events in the Seventh District. That number rose to over 110 in 2006 and is expected to rise even higher in 2007.

Additionally, for the majority of these events, the Coast Guard does not receive notification of the event, or important details of the event are not finalized by event organizers, with sufficient time to publish a notice of proposed rulemaking and final rule before the event date. The Coast Guard must therefore create temporary final rules that sometimes are not completed until only days before the event. This results in delayed notification to the public, potentially placing the public and event participants at risk.

This proposed rule will significantly relieve the administrative burden on the Coast Guard, and at the same time allow the sponsor of the event and the Coast Guard to notify the public of these events in a timely manner. The public will be provided with notice of events through the table attached to this regulation. This table lists each recurring event that may be regulated by the Coast Guard, and indicates the sponsor, as well as the date and location of the event. Because the dates and location of these events may change slightly from year to year, the specific information on each event, including the exact dates, specific areas, and description of the regulated area, will be provided to the public through a Local Notice to Mariners published before the event, as well as through Broadcast Notice to Mariners. This table will be updated by the Coast Guard periodically to add new recurring events, remove events that no longer occur, and update listed events to ensure accurate information is provided.

Discussion of Proposed Rule

This proposed rule will apply to each event listed in the attached table to this rule. Events listed in the table are events that recur annually in the Seventh Coast Guard District. The table provides the event name and sponsor, as well as an approximate date and location of the event. The specific date and regulated area for each event will be provided in a Local Notice to Mariners and Broadcast Notice to Mariners prior to each event. Some events listed in the table currently have permanent regulations published in 33 CFR part 100, and these regulations will be removed.

For each event listed in the table, an event patrol, with a Patrol Commander in charge may be assigned. The Patrol Commander may control the movement of all vessels in the regulated area(s). When hailed or signaled by an official patrol vessel, a vessel in these areas shall immediately comply with the directions given. Failure to do so may result in expulsion from the area, citation for failure to comply, or both. The Coast Guard Patrol Commander may terminate the event, or the operation of any vessel participating in the event, at any time it is deemed necessary for the protection of life or property.

Only event sponsors, designated participants, and official patrol vessels are allowed to enter a regulated area. All persons and vessels not registered with the event sponsor as participants or official patrol vessels are considered spectators. Spectators may not enter the regulated area and may be confined to a designated spectator area to view the event. Spectators may contact the Coast Guard Patrol Commander to request permission to pass through the regulated area. If permission is granted, spectators must pass directly through the regulated area at safe speed and without loitering.

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect the following entities, some of which might be small entities: The owners or operators of vessels intending to transit or anchor in the areas where marine events are being held. This proposed regulation will not have a significant impact on a substantial number of small entities because it will only be enforced on marine events that have been permitted by the Coast Guard Captain of the Port. The Captain of the Port will ensure that small entities are able to operate in the areas where events are occurring. Additionally, in most cases, vessels will be able to safety transit around the regulated area at all times, and, with the permission of the Patrol Commander, vessels may transit through the regulated area.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the person listed under FOR FURTHER INFORMATION CONTACT. The Coast Guard will not retaliate against small entities that question or complain about this rule or any policy or action of the Coast Guard.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD and Department of Homeland Security Management Directive 5100.1, which guide the Coast Guard in complying with the National Environmental Policy Act of 1969 (NEPA)(42 U.S.C. 4321-4370f), and have made a preliminary determination that there are no factors in this case that would limit the use of a categorical exclusion under section 2.B.2 of the Instruction. Therefore, we believe that this rule should be categorically excluded, under figure 2-1, paragraph (34)(h), of the Instruction, from further environmental documentation. This proposed rule fits the category of paragraph 34(h) because it proposes to create special local regulations for regattas and marine parades.

Under figure 2-1, paragraph (34)(h), of the Instruction, an “Environmental Analysis Check List” is not required for this rule. Comments on this section will be considered before we make the final decision on whether to categorically exclude this rule from further environmental review.

List of Subjects in 33 CFR Part 100

Marine safety, Navigation (water), Reporting and recordkeeping requirements, Waterways.

For the reasons discussed in the preamble, the Coast Guard proposes to amend 33 CFR part 100 as follows:

PART 100—REGATTAS AND MARINE PARADES

1. The authority citation for part 100 continues to read as follows:

Authority: 33 U.S.C. 1233.

§§ 100.709, 100.710, 100.714, 100.715, 100.716, 100.721, 100.722, 100.723, 100.730, 100.731, 100.733, and 100.735 [Removed]

2. Remove the following sections from this part: §§ 100.709, 100.710, 100.714, 100.715, 100.716, 100.721, 100.722, 100.723, 100.730, 100.731, 100.733, and 100.735.

3. Add a new § 100.701 to read as follows:

§ 100.701 Special Local Regulations; Marine Events in the Seventh Coast Guard District.

The following regulations apply to the marine events listed in Table 1 of this section. These regulations will be effective annually, for the duration of each event listed in Table 1. Annual notice of the exact dates and times of the effective period of the regulation with respect to each event, the geographical area, and details concerning the nature of the event and the number of participants and type(s) of vessels involved will also be published in local notices to mariners and/or a Notice of Enforcement in the Federal Register.

(a) Definitions. The following definitions apply to this section:

Patrol Commander. A Patrol Commander is a commissioned, warrant, or petty officer of the Coast Guard who has been designated by the respective Coast Guard Sector Commander to enforce these regulations.

Spectators. All persons and vessels not registered with the event sponsor as participants or official patrol vessels.

(b) Event Patrol. The Coast Guard may assign an event patrol, as described in § 100.40 of this part, to each regulated event listed in the table. Additionally, a Patrol Commander may be assigned to oversee the patrol. The event patrol and Patrol Commander may be contacted on VHF Channel 16.

(c) Special Local Regulations. (1) The Coast Guard Patrol Commander may forbid and control the movement of all vessels in the regulated area(s). When hailed or signaled by an official patrol vessel, a vessel in these areas shall immediately comply with the directions given. Failure to do so may result in expulsion from the area, citation for failure to comply, or both.

(2) The Coast Guard Patrol Commander may terminate the event, or the operation of any vessel participating in the event, at any time it is deemed necessary for the protection of life or property.

(3) Only event sponsor designated participants and official patrol vessels are allowed to enter the regulated area.

(4) Spectators are only allowed inside the regulated area if they remain within a designated spectator area. Spectators may contact the Coast Guard Patrol Commander to request permission to pass through the regulated area. If permission is granted, spectators must pass directly through the regulated area at safe speed and without loitering.

(d) Contact Information. Questions about marine events should be addressed to the local Coast Guard Captain of the Port for the area in which the event is occurring. Contact information is listed below. For a description of the geographical area of each Captain of the Port zone, please see subpart 3.35 of this chapter.

(1) Captain of the Port Charleston, South Carolina: (843) 724-7616.

(2) Captain of the Port Savannah, Georgia: (912) 652-4353.

(3) Captain of the Port Jacksonville, Florida: (904) 247-7318.

(4) Captain of the Port Miami, Florida: (305) 535-8701.

(5) Captain of the Port Key West, Florida: (305) 292-8779.

(6) Captain of the Port Sector St. Petersburg, Florida: (727) 824-7506.

(7) Captain of the Port San Juan, Puerto Rico: (787) 289-2041.

(e) Application for Marine Events. The application requirements of § 100.15 of this part apply to all events listed in Table 1. For information on applying for a marine event, contact the Captain of the Port for the area in which the event will occur, at the phone numbers listed above.

Table 1 to § 100.701
Date | Event | Sponsor | Location
COTP Zone Miami
January—1st weekend | Levin Memorial Regatta | Biscayne Bay Star Fleet | Biscayne Bay, 2.3 nautical miles offshore from the Coral Bay, Florida; all waters from the surface to the bottom for a radius of 1.7NM centered around position 25°39′6″N, 080°13′30″W no closer than 500 feet from each vessel.
January—1st weekend | Fort Lauderdale Boomerang Regatta | Lauderdale Yacht Club | Atlantic Ocean .5 nautical mile offshore from .5 nautical mile south of the Port Everglades Channel to 4 nautical miles south of the Port Everglades offshore of West Lake, Port Everglades, Florida no closer than 500 feet from each vessel.
January—3rd weekend | Rolex Miami Olympic Sailing Race | U.S. Sailing & U.S. Olympic Sailing Center | Southern Biscayne Bay inside of an area from the Rickenbacker Causeway southwest to Snapper Creek Canal south to Latitude 25°32′00″N east to Soldier Key and northeast to a position approximately 1 nautical mile east of Cape Florida, northwest to Rickenbacker Causeway, Miami, Florida no closer than 500 feet from each vessel.
February—1st weekend | Commodore Rasco Snipe Class Regatta | Coconut Grove Sailing Club | Biscayne Bay, 1 mile offshore from the Coconut Grove Sailing Club, Coconut Grove, Florida; all waters from the surface to the bottom for a radius of 1NM centered around position 25°41′42″N, 080°13′00″W no closer than 500 feet from each vessel.
March—1st week, Monday-Friday | Bacardi Cup | Biscayne Bay Star Fleet | All waters within 1.5 nautical miles of the following center point: 25°38′16″N latitude; 080°13′14″W longitude, in southern Biscayne Bay, Miami, Florida.
March—2nd weekend, Saturday and Sunday | Lightenings Midwinter's | Coral Reef Yacht Club | Biscayne Bay, 2.3 nautical miles offshore from the Coral Bay, Florida; all waters from the surface to the bottom for a radius of 1.7NM centered around position 25°39′6″N, 080°13′5″ W no closer than 500 feet from each vessel.
March—2nd weekend | Don Q Rum Snipe Class Regatta | Coconut Grove Sailing Club | Biscayne Bay, 1 mile offshore from the Coconut Grove Sailing Club, Coconut Grove, Florida; all waters from the surface to the bottom for a radius of 1NM centered around position 25°41′42″N, 080°13′00″W no closer than 500 feet from each vessel.
March—2nd weekend, Saturday and Sunday | Coral Cup | Coconut Grove Sailing Club | Biscayne Bay, 1 mile offshore from the Coconut Grove Sailing Club, Coconut Grove, Florida; all waters from the surface to the bottom for a radius of 1NM centered around position 25°41′42″N, 080°13′00″W.
March—last weekend | Shake-A-Leg Mid Winter Regatta | Shake-A-Leg Foundation | All waters of Biscayne Bay, from the Rickenbacker Causeway south to Latitude 25°32′00″N, Miami, Florida no closer than 500 ft from each vessel.
April—2nd or 3rd weekend | Miami to Key Largo Race | Miami Yacht Club Youth Sailing Foundation | Biscayne Bay and Intracoastal Waterway from the Rickenbacker Causeway in Miami, Florida to Key Biscayne to Cape Florida to Soldier Key to Sands Key to Elliot Key to Two Stacks to Card Sound to Barnes Sound to Blackwater Sound in Key Largo, Florida no closer than 500 feet from each vessel.
April—2nd weekend | Florida State Optimists Championship Regatta | Coconut Grove Sailing Club | Biscayne Bay, 1 mile offshore from the Coconut Grove Sailing Club, Coconut Grove, Florida; all waters from the surface to the bottom for a radius of 1NM centered around position 25°41′42″N, 080°13′00″W.
April—2nd weekend, Saturday and Sunday | Fort Lauderdale Air/Sea Show Super Boat Grand Prix | Super Boat International Productions, Inc | Atlantic Ocean offshore Fort Lauderdale, Florida within an area 500 yards wide 300 yards offshore from 1,500 yards north of the Port Everglades Channel north for 4 nautical miles (600 yards north of the Oakland Park Beach Blvd).
April—3rd weekend | Miami Super Boat Grand Prix | Super Boat International Productions, Inc | Offshore Miami Beach, Florida, including the area within a line joining the following points: 25°46′18″N, 080°07′51″W; thence to, 25°46′18″N, 080°06′49″W; thence to, 25°51′18″N, 080°06′12″W; thence to, 25°51′18″N, 080°07′11″W; thence along the shoreline to the starting point.
April—last Saturday | Sunfest Fireworks | Pyro Shows, Inc | Intracoastal Waterway in West Palm Beach between Banyon St and Lakeview; all waters from the surface to the bottom for a radius of 1000 ft centered around position 26°42′34″N, 080°02′47″W.
April—last weekend | Vero Beach Yacht Club Blessing of the Fleet | Blessing of the Fleet | North Fork and St Lucie River, Florida no closer than 500 feet from each vessel.
April, May, and June—1st weekend | Hollywood Super Boat Grand Prix | Super Boat International Productions, Inc | Atlantic Ocean offshore Hallandale Beach, Florida in an area 400 yards wide approximately 200 yards offshore from the Hallandale Beach tank to approximately 1 nautical mile south of the Dania Town Canal.
May—1st weekend | C-Gull Cup | Coconut Grove Sailing Club | Biscayne Bay, 1 mile offshore from the Coconut Grove Sailing Club, Coconut Grove, Florida; all waters from the surface to the bottom for a radius of 1NM centered around position 25°41′42″N, 080°13′00″W.
May—1st weekend | Fort Lauderdale Air & Sea Show | Fort Lauderdale Parks and Recreation | Atlantic Ocean offshore Fort Lauderdale, Florida within an area 500 yards wide 300 yards offshore from 1,500 yards north of the Port Everglades Channel north for 4 nautical miles (600 yards north of the Oakland Park Beach Blvd).
May—3rd weekend | Pompano Beach Power Squadron Safe Boat Parade | Pompano Beach Power Squadron | 14th St Bridge to Sunrise Bay, Florida.
May—last weekend | Goombay Regatta | Coconut Grove Sailing Club | Biscayne Bay, 1 mile offshore from the Coconut Grove Sailing Club, Coconut Grove, Florida; all waters from the surface to the bottom for a radius of 1NM centered around position 25°41′42″N, 080°13′8″W no closer than 500 feet from each vessel.
July 4th | American Legion Fourth of July | Add-Fire Fireworks, Inc | Biscayne Bay, approx 400 ft offshore of Legion Picnic Island, Miami, Florida in approx position 25°50′02″N, 080°10′24″W.
July 4th | Fort Lauderdale Fourth of July | Colonial Fireworks | ½ NM offshore at Las Olas Blvd., Fort Lauderdale, Florida.
July 4th | Fort Lauderdale Yacht Club Fourth of July | Colonial Fireworks | Intracoastal Waterway in front of the Fort Lauderdale Yacht Club, Fort Lauderdale, Florida.
July 4th | City of Stuart Fourth of July | Creative Fireworks Co | Intracoastal Waterway in front of Stuart City Hall, Stuart, Florida.
July 4th | Bayfront Park Fourth of July | Firepower Displays | All waters within a 1680 foot radius around approximate position 25°46′30″N, 080°10′54″W, in Biscayne Bay, FL.
July 4th | Coral Reef Yacht Club Fourth of July | Firepower Displays | 700 ft offshore from Vizcaya in Biscayne Bay, Miami, Florida.
July 4th | Fisher's Island Fourth of July | Firepower Displays | Offshore 840 ft from Fisher Island, Florida.
July 4th | Miami Beach Fourth of July | Firepower Displays | 840 ft offshore from Atlantic Heights, Miami Beach, Florida.
July 4th | Village of Key Biscayne Fourth of July | Firepower Displays | 1500 ft offshore from Key Biscayne in Biscayne Bay, Miami, Florida.
July 4th | Viscayans Fourth of July | Firepower Displays | 700 ft offshore from Viscaya in Biscayne Bay, Miami, Florida.
July 4th | Delray Beach Fourth of July | Fireworks by Grucci, Inc | Atlantic Ocean, 1,000 ft offshore from Delray Beach, Florida; all waters from the surface to the bottom for a radius of 840 feet centered around position 26°27′41″N, 080°03′11″W.
July 4th | Boynton Beach Fourth of July | Melrose South Pyrotechnics | All waters from the surface to the bottom, for 840 ft out in all directions from approximate position 26°32′52″N, 080°02′54″W.
July 4th | City of Hollywood Fourth of July | Melrose South Pyrotechnics | Atlantic Ocean, 1,000 ft offshore from Hollywood, Florida; all waters from the surface to the bottom for a radius of 840 feet centered around position 26°01′19″N, 080°06′39″W.
July 4th | Riviera Beach Fourth of July | Sparktacular Fireworks | All waters within a 1400 foot diameter around approximate position 26°42′26″N, 080°02′28″W.
July 4th | Town of Lantana Fourth of July | Zambelli Fireworks | All waters within an 840 foot diameter in approximate position 26°35′13″N, 080°02′50″W.
July 4th | West Palm Beach Fourth of July | Zambelli Fireworks | All waters within a 1400 foot diameter of approximate position 26°42′26″N, 080°02′28″W.
July—1st weekend | Commodore's Cup Regatta | Coconut Grove Sailing Club | Biscayne Bay, 1 mile offshore from the Coconut Grove Sailing Club, Coconut Grove, Florida; all waters from the surface to the bottom for a radius of 1NM centered around position 25°41′42″N, 080°13′00″W no closer than 500 feet from each vessel.
July—2nd weekend | Dania Beach / Hollywood Super Boat Race | Super Boat International Productions, Inc | Waters offshore of Hollywood Beach within an area located 300 yards offshore from North Lake north to Dania Cutoff Canal going offshore aproximately 650 yards.
August—3rd weekend | Conch Cup Regatta | Miami Yacht Club | Biscayne Bay from the Rickenbacker Causeway south in the Intracoastal Waterway to the Cape Florida Channel, east around Key Biscayne and north to the Miami Channel entrance, Miami, Florida no closer than 500 feet from each vessel.
October—1st weekend | Columbus Day Regatta | Columbus Day Regatta, Inc | Southern Biscayne Bay inside of an area from 1 nautical mile south of the Rickenbacker Causeway and 1 nautical mile east of Deering Channel southwest to Snapper Creek Canal south to a point half between Soldier Key and Lewis Cut west to the chain of islands south of Soldier Key and north to 1 nautical mile south of Rickenbacker Causeway, Miami, Florida
October—1st weekend | Deerfield Beach Super Boat National Championship | Super Boat International Productions, Inc | Atlantic Ocean within an area 500 yards wide approximately 500 yards offshore Deerfield Beach, FL from 2 miles north of Hillsboro Inlet to .5 mile south of Boca Raton Inlet.
October—2nd weekend | Miami Kayak Challenge | Cystic Fibrosis Foundation | All waters of Biscayne Bay from Lummus Island Cut to the Rickenbacker Causeway, Miami, Florida.
November—2nd weekend, Saturday and Sunday | Keely Perpetual Trophy Regatta | Biscayne Bay Yacht Club | Biscayne Bay within an area from the Dinner Key Channel to Biscayne National Park Marker “B” to Cutter Channel Mark “2” to Biscayne National Park Marker “C” to West Featherbead Bank Channel Marker “3” to West Featherbed Bank Channel Marker “5” to Elliot Key Biscayne National Park Anchorage, Miami, Florida no closer than 500 feet from each vessel.
November—2nd or 3rd weekend | Matheson Perpetual Trophy Regatta | Biscayne Bay Yacht Club | Biscayne Bay within an area from the Dinner Key Channel to Biscayne National Park Marker “B” to Cutter Channel Mark “2” to Biscayne National Park Marker “C” to West Featherbead Bank Channel Marker “3” to West Featherbed Bank Channel Marker “5” to Elliot Key Biscayne National Park Anchorage, Miami, Florida no closer than 500 feet from each vessel.
November—2nd weekend | PHRF SE Florida Championship | Coconut Grove Sailing Club | Biscayne Bay, 2.3 nautical miles offshore from the Coral Bay, Florida; all waters from the surface to the bottom for a radius of 1.7NM centered around position 25°39′6″;N, 080°13′30″W no closer than 500 feet from each vessel.
November—2nd weekend | Viscayan's Ball | Firepower Displays | 1200 ft offshore from Virginia Key, South of Seaquarium, Miami, Florida.
December 31st | Bayside New Years | Add-Fire Fireworks, Inc | All waters within a 1680 foot radius around a barge in position 25°46′30″N, 080°10′54″W.
December 31st | Fisher Island New Years | Add-Fire Fireworks, Inc | 1000 ft offshore east of Fisher Island, Florida.
December 31st | Hillsboro New Years Fireworks | Add-Fire Fireworks, Inc | 100 yds north of Hillsboro Inlet, Florida.
December 31st | Indian Riverside Park New Years | Add-Fire Fireworks, Inc | 1200 ft east of Indian Riverside Park, Jensen Beach, Florida.
December 31st | Greater Miami New Years | Firepower Displays | 1200 ft offshore from Bayfront Park, Miami Harbor, Miami, Florida.
December 31st | Viscayan's New Years | Firepower Displays | 840 ft offshore from Viscaya, Miami, Florida.
December—3rd weekend | Pompano Beach Boat Parade | Pompano Beach Boat Parade Committee | Intracoastal Waterway in Pompano Beach, Florida, from Lake Santa Barbara to Hillsboro Blvd Bridge.
December—1st weekend | Commodore's Cup | Biscayne Bay Star Fleet | Biscayne Bay, 2.3 nautical miles offshore from the Coral Bay, Florida; all waters from the surface to the bottom for a radius of 1.7NM centered around position 25°39′6″N, 080°13′30″W no closer than 500 feet from each vessel.
December—1st weekend | Kiwanis of Little Havana Christmas | Firepower Displays | 1200 ft offshore from Virginia Key, south of Seaquarium, Miami, Florida.
December—1st weekend | Holiday Boat Parade of the Palm Beaches | Marine Industrial Association of Palm Beach County | Port of Palm Beach Turning Basin and the Intracoastal Waterway extending south from Lake Worth South LT 1 (LLNR 42170) to Lake Worth South Daybeacon 23 (LLNR 42300).
December—1st weekend | Martin County Christmas Boat Parade | Marine Industries Association | All waters of the North and South Forks of the St Lucie River in Stuart, Florida, starting on the north side of the State Road 60 Bridge going south to Hutchinson Island and circling back north to the State Road 60 Bridge and ending past the City of Stuart Municipal Marina.
December—2nd or 3rd weekend | Seminole Hard Rock Winterfest Boat Parade | Winterfest, Inc | All waters of the Intracoastal Waterway from the Port Everglades turning basin to the Pompano Beach Daybeacon 74 (LLNR 47230).
December—2nd weekend | Piana Cup Regatta | Biscayne Bay Yacht Club | Biscayne Bay, 2.3 nautical miles offshore from the Matheson Hammock County Park, Florida; all waters from the surface to the bottom for a radius of 1.5NM centered around position 25°39′54″N, 080°13′12″W no closer than 500 feet from each vessel.
December—2nd weekend | Boynton/Delray Beach Christmas Boat Parade | Kiwanis Club Delray Beach | Intracoastal Waterway from marker #46 in Boynton Beach, Florida to C-15 Canal in Delray Beach, Florida.
December—2nd weekend | St Lucie Christmas Boat Parade | Marine Industrial Association | All waters of the Intracoastal Waterway and Taylor Creek in Fort Pierce, Florida, starting in the Fort Pierce turning basin and inlet area going to Taylor Creek and the Intracoastal Waterway between the North Causeway Bridge and the South Causeway Bridge.
December—2nd weekend | Miami Outboard Club Christmas Boat Parade | Miami Outboard Club | Biscayne Bay from the Miami Outboard Club on Watson Island starting from in between the MacArthur Causeway and Palm Island heading west around Palm Island and Hibiscus Island, heading east between Di Lido Island, heading east around the monument, south through Meloy Channel, west in Government Cut to Bicentennial Park, south to the Dodge Island Bridge, south in the Intracoastal Waterway to Claughton Island, circling back to the north in the Intracoastal Waterway to Watson Island, around the island on the north side to Miami Outboard Club no closer than 500 feet from each vessel.
December—2nd weekend | Boca Raton Holiday Boat Parade | City of Boca Raton | Moving zone in New River and Intracoastal Waterway, Fort Lauderdale, Florida; from the C15 Canal in Fort Lauderdale to Hillsboro Inlet with 500 feet ahead of the lead parade vessel and 500 feet astern of the last participating parade vessel or within 50 feet on either side of the parade.
December—4th weekend | Orange Bowl Youth Sailing Regatta | Coral Reef Yacht Club | Southern Biscayne Bay inside of an area from the Rickenbacker Causeway southwest to Snapper Creek Canal south to latitude 25°32′N east to Soldier Key and northwest to Rickenbacker Causeway, Miami, Florida no closer than 500 ft from each vessel.
December—last weekend | Coconut Grove Sailing Club Orange Bowl Regatta | Coconut Grove Sailing Club | Southern Biscayne Bay inside of an area from the Rickenbacker Causeway southwest to Snapper Creek Canal south to latitude 25°32′N east to Soldier Key and northwest to Rickenbacker Causeway, Miami, Florida no closer than 500 ft from each vessel.
Monthly—last weekend, Saturday and Sunday | Biscayne Bay Racing Association Full Moon Regatta | Biscayne Bay Yacht Racing Association | Southern Biscayne Bay inside of an area from the Rickenbacker Causeway southwest to Snapper Creek Canal south to latitude 25°32′00″N east to Soldier Key and northwest to Rickenbacker Causeway, Miami, Florida no closer than 500 ft from each vessel.
COTP Zone Key West
January 1st | Blessing of the Fleet | Islamorada Charter Boat Assn | From Whale Harbor Channel to Whale Harbor Bridge, Islamorada, Florida.
January through April—last Monday or Tuesday | Wreckers Cup Races | Schooner Wharf Bar | Key West Harbor to Sand Key, Florida (Gulf of Mexico side).
January—3rd week, Monday-Friday | Yachting Key West Race Week | Premiere Racing, Inc | Inside the reef on either side of main ship channel, Key West Harbor Entrance, Key West, Florida.
February—1st Saturday | The Bogey | Florida Bay Outfitters | Blackwater Sound (entire sound), Key Largo, Florida.
February—1st Sunday | The Bacall | Florida Bay Outfitters | Blackwater Sound (entire sound), Key Largo, Florida.
April—3rd weekend, Saturday-Sunday | Miami to Key Largo Sailboat Race | MYC Youth Sailing Foundation, Inc | Biscayne Bay and Intracoastal Waterway from the Rickenbacker Causeway in Miami, Florida to Key Biscayne to Cape Florida to Soldier Key to Sands Key to Elliot Key to Two Stacks to Card Sound to Barnes Sound to Blackwater Sound in Key Largo, Florida no closer than 500 feet from each vessel.
April—last Friday | Conch Republic Navy Parade and Battle | Sponsor: Conch Republic | All waters approximately 150 yards offshore from Ocean Key Sunset Pier, Mallory Square and the Hilton Pier within the Key West Harbor.
May—3rd weekend | Marathon Super Boat Grand Prix. | Super Boat International Productions, Inc | All waters of Knight Key Channel, encompassing both the Gulf of Mexico side and the Atlantic Ocean side of the Seven Mile Bridge.
June—2nd weekend | FKCC Swim around Key West | Florida Keys Community College | Begin at Smather's Beach and swim the loop around the island back to the start approximately 50 yards offshore, Key West, Florida.
July—3rd weekend, Saturday and Sunday | The Easom Cup | South Eastern Ocean Racing Series (SEORS) | Caesar's Creek, Everglades City, Florida.
November—2nd week, Wednesday-Sunday | Key West World Championship | Super Boat International Productions, Inc | In the Atlantic Ocean, off the tip of Key West, on the waters of the Key West Main Ship Channel, Key West Turning Basin, and Key West Harbor Entrance.
November—first weekend, Friday-Sunday | U.S. Wake Board Championships | Middle Keys Events Council | Sombrero Beach, Marathon, Florida; between Sister Creek and Sister Rock to approximately 500 yards offshore from Sombrero Beach.
December—1st Thursday | Boot Key Harbor Christmas Boat Parade | Dockside Marina | Boot Key Harbor (entire harbor), Marathon, Florida.
December—2nd Sunday | Key Colony Beach Holiday Boat Parade | Key Colony Beach Community Assn | Key Colony Beach, Marathon, Florida, between Vaca Cut Bridge and Long Key Bridge.
December—3rd Saturday | Key Largo Boat Parade | Key Largo Boat Parade | From Channel Marker 41 on Dusenbury Creek in Blackwater Sound to tip of Stillwright Point in Blackwater Sound, Key Largo, Florida.
December—3rd Saturday | Key West Lighted Boat Parade | Schooner Wharf Bar | All waters between Christmas Tree Island and Coast Guard Station thru Key West Harbor to Mallory Square, approximately 35 yards from shore.
COTP Zone San Juan
May—first Sunday | Half Ironman Triathlon | Project St. Croix, Inc | St. Croix (Christiansted Harbor), U.S.V.I.: In the following position: PT1 on the shoreline at Kings Wharf at posn 17°44′51″N, 064°42′16″W, thence north to PT2 at the southwest corner of Protestant Cay in posn 17°44′56″N, 064°42′12″W, then east along the shoreline to PT3 at the southeast corner of Protestant Cay in posn 17°44′56″N, 064°42′08″W, thence northeast to PT4 at Christiansted Harbor Channel Round Reef Northeast Junction Lighted Buoy RR in posn 17°45′24″N, 064°41′45″W, thence southeast to PT 5 at Christiansted Schooner Channel Lighted Buoy 5 in posn 17°45′18″N, 064°41′43″W, thence south to PT6 at Christiansted Harbor Channel Buoy 15 in posn 17°44′56″N, 064°41′56″W, thence to PT7 on the shoreline north of Fort Christiansvaem in posn 17°44′51″N, 064°42′05″W, thence west along the shoreline to PT1.
July 4th | Fireworks Display | St. John Festival & Cul., Org | St. John (West of Cruz Bay/Northeast of Steven Cay), U.S.V.I. all waters from the surface to the bottom for a radius of 200 yards centered around position 18°19′55″N, 064°48′06″W.
July—3rd week, Sunday | San Juan Harbor Swim | Municipality of Catano | San Juan Harbor, Puerto Rico PT1: La Puntilla Final, Coast Guard Base at posn 18°27′33″N, 066°07′00″W, then south to PT2: Catano Ferry Pier at posn 18°26′36″N, 066°07′00″W, then east along the Catano shoreline to PT3: Punta Catano at posn 18°26′40″N, 066°06′48″W, then north to PT4: Pier 1 San Juan at posn 18°27′40″N, 066°06′49″W, then back along the shoreline to origin at PT1.
December 31st | Fireworks St. Thomas, Great Bay | Mr. Victor Laurenza, Pyrotecnico, New Castle, PA | St. Thomas (Great Bay area), U.S.V.I.; all waters from the surface to the bottom for a radius of 600 feet centered around position 18°19′14″N, 064°50′18″W.
December—1st week | Christmas Boat Parade | St. Croix Christmas Boat Committee | St. Croix (Christiansted Harbor), U.S.V.I.; 200 yards off-shore around Prostestant Cay beginning in posn 17°45′56″N, 064°42′16″W, around the cay and back to the beginning position.
COTP Zone Charleston
May—Morning Slack Tide on the 3rd and 4th Saturday | Lowcountry Splash | Logan Rutledge | Cooper River/Charleston Harbor, South Carolina, including the waters of the Wando River, Cooper River, and Charleston Harbor from Hobcaw Yacht Club, in approximate position 32°49′32″N, 079°53′81″W, south along the coast of Mt. Pleasant, S.C., to Charleston Harbor Marina, approximate position 32°47′20″N, 079°54′64″W, and extending out 150 yards from shore.
June—2nd week | Beaufort Water Festival | City of Beaufort | Beaufort, South Carolina, between the Lady's Island swing bridge and Spanish Point.
June-August—every Tuesday | Shelter Cove Fireworks | Greenwood Development Corp | Shelter Cove, Hilton Head, South Carolina extending a radius of 600 feet from approximate position 32°11′10″N, 080°43′54″W.
July 4th | Sea pines resort 4th of July | Seapines Plantation | Harbortowne, Hilton Head, Calibogue Sound, South Carolina extending a radius of 600 feet from approximate position 32°11′10″N, 080°43′54″W.
July 4th | Patriots Point Fireworks | Patriots Point | Charleston Harbor, South Carolina, extending a radius of 1000 feet from approximate position 32°47′01″N, 079°53′8″W.
July 4th | Skull Creek Fireworks | Hudson Seafood | Skull Creek, Hilton Head, South Carolina extending a radius of 1000 feet from the approximate position 32°13′57″N, 080°45′06″W.
July 4th | City of North Charleston Fireworks | City of North Charleston | Cooper River, Charleston, South Carolina extending a radius of 1000 feet from approximate position 32°51′57″N, 079°57′35″W.
July 4th | Market Street Fireworks | City of Charleston | Charleston harbor, South Carolina extending a radius of 1000 feet from center approximate position 32°54′01″N, 080°08′05″W.
November—2nd week | Head of the South | Augusta Rowing club | Upper Savannah River MM199 to MM196, Georgia.
December—2nd week | Charleston Harbor Christmas Parade of Boats | City of Charleston | Charleston harbor, South Carolina, from Anchorage A through Shutes Folly, Horse Reach, Hog Island Reach, Town Creek Lower Reach, Ashley River, and finishing at City Marina.
COTP Zone St. Petersburg
January—3rd Saturday | Gasparilla Children's Parade Fireworks | Event Makers | Hillsborough Bay within a 500 yard radius of the fireworks barge located in approximate position 27°55′04″N, 082°29′08″W.
January—3rd Saturday | Gasparilla Children's Parade Air show | Air Boss and Consulting | Hillsborough Bay north of an imaginary line drawn at 27°55′N, west of Davis Islands, and south of the Davis Island Bridge.
January—last Saturday | Gasparilla Boat Parade | YE Mystic Krewe of Gasparilla | Tampa Bay, Florida, including all waters of Hillsborough Bay and its tributaries north of a line drawn along latitude 27°51′18″N. Hillsborough Cut “D” Channel, Sparkman Channel, Ybor Channel, Seddon Channel and the Hillsborough River south of the John F. Kennedy Bridge.
March—last Friday, Saturday, and Sunday | Honda Grand Prix | Honda Motor Company and City of St. Petersburg | Demons Landing, St Petersburg FL, all waters within 100 ft of the seawall.
March—last Friday, Saturday, and Sunday | St Pete Grand Prix Air show | Honda Motor Company and City of St. Petersburg | St Petersburg FL, within two NM of the Albert Whitted Airport.
April—last Sunday | St Anthony's Triathlon | St Anthony's Health Care | St Petersburg within one NM of Spa Beach.
July 4th | Freedom Swim | None | Peace River FL within two NM of the U.S. 41 Bridge.
July 4th and January 1st | Ybor Fireworks Display | Tampa Bay Attractions Association or various private entities | Ybor Turning Basin within a 120 yard radius of the fireworks barge in approx. position 27°56′29″N, 082°26′43″W.
July 4th and January 1st | Clearwater fireworks displays | City of Clearwater | Gulf Intracoastal Waterway in the vicinity of Clearwater within a 500 yard radius of the fireworks barge located in approximate position 26°58′01″N, 082°48′15″W.
July 4th and January 1st | Marco Island fireworks displays | City of Marco Island | Gulf of Mexico in the vicinity of Marco Island within a 300 yard radius of the fireworks barge located in approximate position 25°54′36″N, 081°45′06″W.
July 4th and January 1st | Venice fireworks displays | City of Venice | Gulf of Mexico in the vicinity of Venice Inlet within a 200 yard radius of the fireworks barge located in approximate position 27°06′44″N, 082°28′09″W.
July 4th and January 1st | Beach House Restaurant fireworks displays | Beach House Restaurant | Gulf of Mexico in the vicinity of Bradenton Beach within a 200 yard radius of the fireworks barge located in approximate position 27°27′59″N, 082°41′58″W.
July 4th and January 1st | Ft Myers fireworks displays | City of Ft Myers | Caloosahatchee River within a 300 yard radius of the fireworks barge located in approximate position 26°38′45″N 081°52′50″W.
July—1st Sunday | Suncoast Offshore Grand Prix | Suncoast Foundation for the Handicapped | Gulf of Mexico in the vicinity of Sarasota, from New Pass to Siesta Beach out to eight NM.
September—3rd Friday, Saturday, and Sunday | Homosassa Raft Race | Citrus 95 FM radio | Homosassa River between Private Green Dayboard 81 east to private Red Dayboard 2.
October—2nd Friday, Saturday, and Sunday | St Petersburg Airfest | City of St Petersburg | St Petersburg, within two NM of the Albert Whitted Airport.
November—3rd Thursday, Friday, and Saturday | Ironman World Championship Triathlon | City of Clearwater & Ironman North America | Gulf of Mexico within two NM of Clearwater Beach FL.
COTP Zone Savannah
May—2nd weekend, Sunday | Blessing of the Fleet—Brunswick | Knights of the Columbus—Brunswick | Brunswick River from the start of the east branch of the Brunswick River (East Brunswick River) to the Golden Isles Parkway Bridge.
May—2nd or 3rd weekend | Grand Prix of Augusta | Champboat Series, LLC | Savannah River, Augusta, Georgia, from the U.S. Highway 1 (Fifth Street) Bridge at mile 199.45 to Eliot's Fish Camp at mile 197.
July 4th | Fourth of July Fireworks | Savannah Waterfront Association | Savannah River, Savannah Riverfront, Georgia, 500 feet around fireworks launch point centered at approximate position 32°04′56″N, 081°05′02″W.
July—3rd full weekend | Augusta Southern Nationals Drag Boat Races | Augusta Southern Nationals | Savannah River, Augusta, Georgia, from the U.S. Highway 1 (Fifth Street) Bridge at mile 199.45 to Eliot's Fish Camp at mile 197.
October—3rd or 4th weekend or November—1st weekend | Champboat Races of Savannah | Champboat Series, LLC. | Savannah River, Savannah Riverfront, Georgia, Talmadge bridge to a line drawn at 146 degrees true from dayboard 62.
November—1st Saturday after Thanksgiving Day | Savannah Harbor Boat Parade of Lights and Fireworks | Westin Resort, Savannah | Savannah River, Savannah Riverfront, Georgia, Talmadge bridge to a line drawn at 146 degrees true from dayboard 62.
December 31st | New Years Eve Fireworks | Savannah Waterfront Association | Savannah River, Savannah Riverfront, Georgia, 500 feet around fireworks launch point centered at approximate position 32°04′56″N, 081°05′02″W.
Monthly—first Friday | First Friday of the Month Fireworks | Savannah Waterfront Association | Savannah River, Savannah Riverfront, Georgia, 500 feet around fireworks launch point centered at approximate position 32°04′56″N, 081°05′02″W.
COTP Zone Jacksonville
February—1st weekend, Friday-Monday | Clay County Super Celebration | Reynolds Park Yacht Club | Reynolds Park Yacht Club (entire club), Green Cove Springs.
February—last Saturday | El Cheapo Sheepshead Tournament | Jacksonville Offshore Sport Fishing Club | Mayport/Jacksonville Boat Ramp; 500 feet seaward of the boat ramp.
March—1st Saturday | Jacksonville Invitational (Rowing Race) | Stanton Rowing Foundation (may vary) | Ortega River Race Course, Jacksonville; between Timuquana and Roosevelt Bridges.
March—1st Saturday | Stanton Invitational (Rowing Race) | Stanton Rowing Foundation | Ortega River Race Course, Jacksonville; between Timuquana and Roosevelt Bridges.
March or April—Palm Sunday | Blessing of the Fleet—Jacksonville | City of Jacksonville Office of Special Events | St. Johns River, downtown Jacksonville in the vicinity of Jacksonville Landing between the Main Street Bridge and Acosta Bride.
March or April—Palm Sunday | Blessing of the Fleet—St. Augustine | City of St. Augustine | St. Augustine Municipal Marina (entire marina).
April—1st full weekend, Saturday and Sunday | Mount Dora Yacht Club Sailing Regatta | Mount Dora Yacht Club | Lake Dora, Mount Doran—500 ft. off Grantham Point.
April—3rd Saturday | Jacksonville City Championships | Stanton Rowing Foundation | Ortega River Race Course, Jacksonville; between Timuquana and Roosevelt Bridges.
April—3rd weekend | Florida Times Union Redfish Roundup | The Florida Times-Union | Sister's Creek Marina to Marker 88 on the St. John's River.
May—1st Friday | Isle of Eight Flags Shrimp Festival Pirate Landing and Fireworks | City of Fernandina Beach | Fernandina Harbor Marina (entire marina).
May—1st Saturday | Mug Race | The Rudder Club of Jacksonville, Inc | St. Johns River; Palatka to Buckman Bridge.
May—4th Friday | Palatka Blue Crab Festival and Fireworks | Palatka Blue Crab Festival | All waters within a 500-yard radius around approximate position 29°38′37″N, 081°37′50″W.
May—4th weekend | Memorial Day RiverFest | City of Green Cove Springs | All waters within a 500-yard radius around approximate position 29° 59′39″N, 081°40′33″W.
May—last full week, Monday—Friday | Bluewater Invitational Tournament | Northeast Florida Marlin Association | There is a no-wake zone in effect from the St. Augustine City Marina out to the end of the St. Augustine Jettys 6 a.m.-8 a.m. and 3 p.m.-5 p.m. during the above days.
May—last full weekend, Friday—Sunday | Blue Crab Festival Ski Shows | Downtown Palatka, Inc. & Palatka Blue Crab Festival, Inc | St. Johns River, South of Memorial Bridge, Palatka.
June—1st Saturday | Florida Sport Fishing Association Offshore Fishing Tournament | Florida Sport Fishing Association | From Sunrise Marina to the end of Port Canaveral Inlet.
June—1st weekend, Friday-Sunday | Jetty Park Ocean Regatta | Fleet 45 Space Coast Catamaran Association, Inc | Jetty Park, Port Canaveral; all waters within a 1000-yard radius around approximate position 28°24′21″N, 080°33′33″W.
June—2nd weekend, Friday-Sunday | St. Augustine King Buster Classic 400 | King Buster Classic, Inc | St. Augustine Municipal Marina (entire marina)
June—4th Saturday | Veterans Day Celebration, Parade and Fireworks Display | City of New Smyrna Beach | All waters within a 500-yard radius around approximate position 29°03′N, 080°55′W.
June—4th weekend, Thursday-Saturday | Tournament of Champions Kingfish Tournament | Nassau Sport Fishing Association | Fernandina Harbor Marina (entire marina), Fernandina Beach.
June—2nd weekend, Saturday and Sunday | Kingfish Challenge | Ancient City Game Fish Association | There is a no-wake zone in effect from the St. Augustine City Marina out to the end of the St. Augustine Jettys 6 a.m.-8 a.m. and 3 p.m.-5 p.m.
July 4th | Cocoa 4th of July Fireworks | City of Cocoa | All waters within a 500-yard radius around approximate position 28°20′22″N, 080°31′27″W.
July 4th | Daytona Beach Boardwalk Association July 4th Fireworks | Daytona Beach Boardwalk Association | All waters within a 500-yard radius around at approximate position 29° 13′34″N, 081°00′33″W.
July 4th | Edgewater Fire Rescue Association Annual Fireworks Celebration | Edgewater Fire Rescue Association | All waters within a 500-yard radius around the pier at Kennedy Memorial Park, Edgewater, FL.
July 4th | Fernandina Beach 4th of July Fireworks | City of Fernandina Beach/ Fernandina Harbor Marina | All waters within a 500-yard radius around approximate position 30°40′17″N, 081°27′56″W.
July 4th | Fireworks Display for Independence Day Celebration (Palatka) | City of Palatka/Downtown Palatka | All waters within a 500-yard radius around approximate position 29°38′37″N, 081°37′51″W.
July 4th | Flagler Beach July 4th Celebration Fireworks | Flagler Beach Chamber of Commerce | All waters within a 500-yard radius around (the end of Flagler Beach Pier) approximate position 29°28′50″N, 081°07′27″W.
July 4th | Florida Yacht Club and Timuquana Country Club Fireworks Display | Florida Yacht Club and Timuquana Country Club | All waters within a 500-yard radius around approximate position 30°15′00″N, 081°41′17″W.
July 4th | Kissimmee July 4th Celebration Fireworks | City of Kissimmee Parks and Recreation | All waters within a 500-yard radius around approximate position 28°17′08″N, 081°24′08″W.
July 4th | Kiwanis Club of St. Marys Annual Fourth of July Festival Fireworks | Kiwanis Club of St. Marys Georgia | St. Marys River, St. Marys, GA; all waters within a 500-yard radius around approximate position 30°43′7″N, 081°32′59″W.
July 4th | Liberty Fest—4th of July Celebration (Jacksonville Beach) | City of Jacksonville Beach | All waters within a 500-yard radius around approximate position 30°17′06″N, 081°23′16″W.
July 4th | Mount Dora Old Fashioned 4th of July Celebration | Rotary Club of Mount Dora/ Mount Dora Firefighter Association | Lake Dora, Mount Dora—500 ft. off Grantham Point.
July 4th | Orange Park Independence Day Celebration Fireworks | Town of Orange Park | All waters within a 500-yard radius around approximate position 30°10′20″N, 081°42′20″W.
July 4th | Ormond Beach Independence Day Celebration Fireworks | City of Ormond Beach | All waters within a 500-yard radius around approximate position 29°17.2′N, 081°02.988′W.
July 4th | Patrick Air Force Base 4th of July Celebration and Fireworks | Patrick Air Force Base | All waters within a 500-yard radius around approximate position 28°14′00″N, 080°37′00″W.
July 4th | Sanford's July 4th Celebration Fireworks | City of Sanford | All waters within a 500-yard radius around the Monroe Harbor Marina.
July 4th | St. Augustine July 4th Fireworks Display | City of St. Augustine | All waters within a 500-yard radius around approximate position 29°53′50.84″N, 081°18′30.87″W.
July—3rd Saturday | Halifax Rowing Association Summer Regatta | Halifax Rowing Association | Halifax River, Daytona, S. of Memorial Bridge—East Side.
July—3rd week | BellSouth Greater Jacksonville Kingfish Tournament | Jacksonville Marine Charities, Inc | All waters of the St. Johns River, from lighted buoy 10 (LLNR 2190) in approximate position 30°24′22″N, 081°24′59″W to lighted buoy 25 (LLNR 7305).
August—2nd week | Townsend Hawkes Ocean Swim | Jacksonville Beaches Kiwanis Club | 50 ft. offshore from Jacksonville Beach to Sea Turtle Inn, Atlantic Beach.
December 31st | Jacksonville New Year's Eve Fireworks | City of Jacksonville Office of Special Events | St. Johns River; west side of Main Street Bridge.
December 31st | St. Augustine Beach New Year's Eve Fireworks | City of St. Augustine Beach | All waters within a 500-yard radius approximate position 29°51′16″N, 081°15′49″W.
December—2nd Saturday | St. Johns River Christmas Boat Parade | St. Johns River Christmas Boat Parade, Inc | St. Johns River; Whitehair Bridge, Deland to Lake Beresford.
December—2nd Saturday | Christmas Boat Parade (Daytona Beach/ Halifax River) | Halifax River Yacht Club | Halifax River from Seabreeze Bridge to Halifax Harbor Marina.
December—2nd Saturday | Kissimmee Holiday Extravaganza Fireworks | City of Kissimmee Parks and Recreation | Kissimmee Lakefront Park; all waters within a 500-yard radius around approximate position 28°17′13″N, 081°24′13″W.

Dated: October 4, 2007.
D.W. Kunkel,
Rear Admiral, U.S. Coast Guard, Commander, Seventh Coast Guard District.

[FR Doc. E7-21714 Filed 11-9-07; 8:45 am]

BILLING CODE 4910-15-P